DEPARTMENT OF LABOR

Employment and Training Administration

[TA-W-55,748]

Liz Claiborne, Inc., North Bergen, NJ; Notice of Revised Determination on Reconsideration

On March 1, 2005, the Department issued an Affirmative Determination Regarding Application for Reconsideration applicable to workers and former workers of the subject firm. The Notice of determination was published in the Federal Register on March 15, 2005 (70 FR 12737). A corrected copy of the determination (dated March 11, 2005) was published in the Federal Register on March 22, 2005 (70 FR 14484).

The Department initially denied Trade Adjustment Assistance (TAA) to workers of Liz Claiborne, Inc., North Bergen, New Jersey because the subject company did not import garment prototypes or samples and did not shift production of these articles abroad.

In the request for reconsideration, the petitioners alleged that the subject firm shifted sample production abroad.

In order to make an affirmative determination and issue a certification of eligibility to apply for Trade Adjustment Assistance, the group eligibility requirements in either paragraph (a)(2)(A) or (a)(2)(B) of Section 222 of the Trade Act must be met. It is determined in this case that the requirements of (a)(2)(B) of Section 222 have been met.

During the reconsideration investigation, the Department requested additional information and clarification from the subject company and the petitioners.

The reconsideration investigation revealed that the company official misunderstood what constituted a shift of production. Based on newly obtained information, the Department determined that during the relevant period, subject company domestic garment sample production levels and employment levels declined and that the subject company shifted garment sample production abroad and increased its reliance on imports of garment samples.

In accordance with Section 246 the Trade Act of 1974 (26 U.S.C. 2813), as amended, the Department herein presents the results of its investigation regarding certification of eligibility to apply for Alternative Trade Adjustment Assistance (ATAA) for older workers.

In order for the Department to issue a certification of eligibility to apply for ATAA, the group eligibility requirements of Section 246 of the Trade Act must be met. The Department has determined in this case that the requirements of Section 246 have been met.

According to the company official, a significant number of workers at the firm are age fifty or over and workers of the subject facility possess skills that are not easily transferable. Competitive conditions within the garment industry are adverse.

Conclusion

After careful review of the newly obtained facts obtained in the reconsideration investigation, I determine that there was a shift of garment sample production abroad followed by actual or likely increased imports of articles that are like or directly competitive with those produced by the subject firm or subdivision. In accordance with the provisions of the Act, I make the following certification:

All workers of Liz Claiborne, Inc., North Bergen, New Jersey, who became totally or partially separated from employment on or after October 5, 2003 through two years from the date of certification are eligible to apply for adjustment assistance under Section 223 of the Trade Act of 1974, and are also eligible to apply for alternative trade adjustment assistance under Section 246 of the Trade Act of 1974.

Signed in Washington, DC this 25th day of March 2005.
Elliott S. Kushner,
Certifying Officer, Division of Trade Adjustment Assistance.

[FR Doc. E5-1941 Filed 4-22-05; 8:45 am]

BILLING CODE 4510-30-P